DEPARTMENT OF LABOR

Occupational Safety and Health Administration

[Docket No. OSHA-2016-0001]

National Advisory Committee on Occupational Safety and Health (NACOSH); Request for Nominations

AGENCY: Occupational Safety and Health Administration (OSHA), Labor.

ACTION: Request for nominations to serve on NACOSH.

SUMMARY: The Assistant Secretary of Labor for Occupational Safety and Health requests nominations for membership on NACOSH.

DATES: Nominations for NACOSH must be submitted (postmarked, sent or received) by March 22, 2016.

ADDRESSES: You may submit nominations for NACOSH, which must include the docket number for this Federal Register notice (Docket No. OSHA-2016-0001), by one of the following methods:

Electronically: You may submit nominations, including attachments, electronically at http://www.regulations.gov, which is the Federal eRulemaking Portal. Follow the online instructions for making submissions.

Facsimile: If your nomination, including attachments, does not exceed 10 pages, you may fax it to the OSHA Docket Office at (202) 693-1648.

Regular mail, express delivery, hand delivery, messenger/courier service (hard copy): You may submit your materials to the OSHA Docket Office, Docket No. OSHA-2016-0001, Room N-2625, U.S. Department of Labor, 200 Constitution Avenue NW., Washington, DC 20210; telephone (202) 693-2350 (TTY (887) 889-5627). OSHA's Docket Office accepts deliveries (hand deliveries, express mail, and messenger/courier service) during normal business hours, 8:15 a.m. to 4:45 p.m. e.t., weekdays.

FOR FURTHER INFORMATION CONTACT: For press inquiries: Mr. Francis Meilinger, Director, OSHA Office of Communications, U.S. Department of Labor, Room N-3647, 200 Constitution Avenue NW., Washington, DC 20210; telephone (202) 693-1999 (TTY (877) 889-5627); email meilinger.francis2@dol.gov.

For general information: Ms. Michelle Walker, Director, OSHA Technical Data Center, Directorate of Technical Support and Emergency Management, Room N-2625, U.S. Department of Labor, 200 Constitution Avenue NW., Washington DC 20210; telephone (202) 693-2350 (TTY (877) 889-5627); email walker.michelle@dol.gov.

SUPPLEMENTARY INFORMATION: The Assistant Secretary of Labor for Occupational Safety and Health invites interested individuals to submit nominations for membership on NACOSH.

NACOSH was established by Section 7(a) of the Occupational Safety and Health Act of 1970 (OSH Act) (29 U.S.C. 651, 656) to advise, consult with and make recommendations to the Secretary of Labor (Secretary) and the Secretary of Health and Human Services (HHS Secretary) on matters relating to the administration of the OSH Act. NACOSH is a continuing advisory committee of indefinite duration.

NACOSH operates in accordance with the Federal Advisory Committee Act (FACA) (5 U.S.C. App. 2), its implementing regulations (41 CFR part 102-3), and OSHA's regulations on NACOSH (29 CFR part 1912a).

NACOSH is comprised of 12 members, all of whom the Secretary appoints. The terms of six NACOSH members expire on December 31, 2016. OSHA invites nominations for the following NACOSH positions:

• Two public representatives;

• One management representative;

• One labor representative;

• One occupational safety professional representative; and

• One occupational health professional representative.

Pursuant to 29 CFR 1912a.2, the HHS Secretary designates the two occupational health professional representatives and two of the four public representatives for the Secretary's consideration and appointment. OSHA will provide to HHS all nominations and supporting materials for the membership categories the HHS Secretary designates.

NACOSH members serve two-year staggered terms, unless the member becomes unable to serve, resigns, ceases to be qualified to serve, or is removed by the Secretary. The Secretary may appoint NACOSH members to successive terms. The Committee must meet at least two times a year (29 U.S.C. 656(a)(1)).

Any interested person or organization may nominate one or more qualified persons for membership on NACOSH. Nominations must include the nominee's name, occupation or current position, and contact information. The nomination also must identify the category that the candidate is qualified to represent, and include a resume of the nominee's background, experience, and qualifications. In addition, the nomination must state that the nominee is aware of the nomination, and is willing to serve and regularly attend NACOSH meetings.

The Secretary will appoint NACOSH members on the basis of their experience and competence in the field of occupational safety and health (29 CFR 1912a.2). The information OSHA receives through this nomination process, in addition to other relevant sources of information, will assist the Secretary in appointing members to serve on NACOSH. In appointing NACOSH members, the Secretary will consider individuals nominated in response to this Federal Register notice, as well as other qualified individuals.

The U.S. Department of Labor (Department) is committed to equal opportunity in the workplace and seeks a broad-based and diverse NACOSH membership. The Department will conduct a public records check of nominees before their appointment using publicly available sources.

Public Participation, Submissions and Access to Public Record

You may submit nominations using one of the methods listed in the ADDRESSES section. Your submission must include the Agency name and docket number for this Federal Register notice (Docket No. OSHA-2016-0001). Due to security-related procedures, receipt of submissions by regular mail may experience significant delay. Please contact the OSHA Docket Office for information about security procedures for making submissions by hand delivery, express delivery, or messenger/courier service.

OSHA posts submissions, including any personal information you provide, in the NACOSH docket, without change. Those documents also may be available online at http://www.regulations.gov. Therefore, OSHA cautions interested parties about submitting personal information, such as Social Security numbers and birthdates. To read or download documents in the NACOSH docket, go to Docket No. OSHA-2016-0001 at http://www.regulations.gov. The index for that Web page lists all of the documents in the docket; however, some documents (e.g., copyrighted materials) are not publicly available through that Web page.

All documents in the NACOSH docket, including materials not available through http://www.regulations.gov, are available in the OSHA Docket Office. Please contact the OSHA Docket Office for assistance in making submissions to, or obtaining materials from, the NACOSH docket.

Electronic copies of this Federal Register notice are available at http://www.regulations.gov. This notice, as well as news releases and other relevant information, also are available at OSHA's Web page at http://www.osha.gov.

Authority and Signature

David Michaels, Ph.D., MPH, Assistant Secretary of Labor for Occupational Safety and Health, directed the preparation of this notice under the authority granted by 29 U.S.C. 656, 5 U.S.C. App. 2; 29 CFR part 1912a; 41 CFR part 102-3; and Secretary of Labor's Order No. 1-2012 (77 FR 3912).

Signed at Washington, DC, on January 19, 2016.
David Michaels,
Assistant Secretary of Labor for Occupational Safety and Health.

[FR Doc. 2016-01281 Filed 1-21-16; 8:45 am]

BILLING CODE 4510-26-P